DEPARTMENT OF THE INTERIOR

Bureau of Land Management

[OR-027-1610-DP; G-03-0234]

Notice of Availability of a Draft Resource Management Plan and Draft Environmental Impact Statement for the Andrews Management Unit/Steens Mountain Cooperative Management and Protection Area

AGENCY: Bureau of Land Management (BLM).

ACTION: Notice of Availability of Draft Resource Management Plan and Environmental Impact Statement (Draft RMP/Draft EIS) for the Andrews Management Unit and the Steens Mountain Cooperative Management and Protection Area (CMPA).

SUMMARY: In accordance with Section 202 of the National Environmental Policy Act of 1969, and under authority of the Federal Land Policy and Management Act of 1976, a Draft RMP/Draft EIS has been prepared for the Andrews Management Unit and the CMPA. The planning area, which consists of the Andrews Management Unit (public land in the Andrews Resource Area outside of the CMPA totaling 1,221,314 acres) and public land in the CMPA (totaling 428,156 acres), lies in Harney and Malheur Counties, Oregon. The Draft RMP/Draft EIS provides direction and guidance for the management of public lands and resources within the Planning Area as well as monitoring and evaluation requirements. Once approved, the Andrews Management Unit and CMPA RMPs will supercede all existing management plans for the public land within the Planning Area, including amending a portion of the Three Rivers Resource Area RMP (1991) for those lands included within the CMPA boundary. The Draft RMP/Draft EIS evaluates five alternative management approaches, including a No Action (current management) Alternative.

DATES: Written comments on the Draft RMP/Draft EIS will be accepted for 90 days following publication of the Environmental Protection Agency's Notice of Availability for this Draft RMP/Draft EIS in the Federal Register. Future public meetings and any other public involvement activities will be announced at least 15 days in advance through public notices, media news releases, the project Web site at http://www.or.blm.gov/Burns/, and/or mailings.

ADDRESSES: Written comments should be sent to Rhonda Karges, Bureau of Land Management, Burns District Office, 28910 Hwy 20 West, Hines, Oregon 97738; Fax (541) 573-4411 or e-mail (Rhonda_Karges@or.blm.gov). Comments, including names, street addresses, and other contact information of respondents, will be available for public review. Individual respondents may request confidentiality. If you wish to request that BLM consider withholding your name, street address, and other contact information such as Internet address, Fax or phone number, from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

Copies of the Draft RMP/Draft EIS have been sent to affected Federal, Tribal, State and local Government agencies, and to interested publics and are available at the Burns District Office. The planning documents and direct supporting record for the analysis for the Draft RMP/Draft EIS will be available for inspection at the Burns District Office during normal business hours (7:45 a.m. to 4:30 p.m. Monday through Friday, except holidays). The Draft RMP/Draft EIS and other associated documents may be viewed and downloaded in PDF format at the project Web site at http://www.or.blm.gov/Burns/.

FOR FURTHER INFORMATION CONTACT: For further information and/or to have your name added to our mailing list, contact Rhonda Karges (541) 573-4433 or Gary Foulkes (541) 573-4541 at the Burns District Office.

SUPPLEMENTARY INFORMATION: The Steens Mountain Cooperative Management and Protection Act (Steens Act) of 2000 (Pub. L. 106-399) established the 496,136-acre CMPA primarily within the Andrews Resource Area (a small portion is within the Three Rivers Resource Area). The Andrews Resource Area and the CMPA portion of the Three Rivers Resource Area comprise the Planning Area. The remaining portion of the Andrews Resource Area outside of the CMPA is identified as the Andrews Management Unit. Other special designated areas were created by the Steens Act and include the Wildland Juniper Management Area, the Steens Mountain Wilderness (170,084 acres), new Wild and Scenic River designations, a no livestock grazing area (97,229 acres), and the Donner und Blitzen Redband Trout Reserve. In addition, the Steens Act authorized five specific land exchanges, created a citizen's advisory council (Steens Mountain Advisory Council), established a Mineral Withdrawal Area, and created new Wilderness Study Area (WSA) boundaries. Congress recognized that the CMPA provides for exceptional cooperative management opportunities and offers outstanding natural, cultural, scenic, wilderness, and recreational resources. To ensure that these resources are appropriately managed, the Steens Act requires that a management plan be completed within four years of passage of the Steens Act. At the end of the planning/analysis process, the CMPA and Andrews Management Unit RMPs will be finalized in two separate Records of Decision.

The Draft RMP/Draft EIS contains five alternatives. Alternative A is a no action/continuation of current management alternative. Alternative B excludes commodity production and limits other uses to maximize natural processes. Alternative C emphasizes protection and active restoration of natural values. Alternative D balances cultural, economic, ecological, and social health in a manner that encourages cooperative management practices. Alternative D is the preferred alternative. Alternative E emphasizes commodity production and public uses.

Public input during scoping and review of the Summary of the Analysis of Management Situation identified 17 issues for analysis in the RMP/EIS. These issues are outlined in Chapter 1 of the Draft RMP/Draft EIS. In addition, the Planning Criteria, which are the constraints or ground rules directing development of the RMP, are outlined in Appendix D (Legal Authorities, Planning Criteria and Management Direction and Consistency with Other Plans).

There have been numerous opportunities for public involvement in the process to date, including four separate public scoping meetings held in Burns, Frenchglen, Portland, and Bend, Oregon. A newsletter was also mailed to all interested parties requesting input on the alternatives, planning criteria, and the goals and objectives for resource management. In addition, the Steens Mountain Advisory Council and the Southeast Oregon Resource Advisory Council have closely participated in the process.

Numerous meetings have been held and coordination has been conducted with the Burns Paiute Tribal Council, Oregon Department of Fish and Wildlife, the Governor's Office, Oregon Department of Environmental Quality, U.S. Fish and Wildlife Service—Ecological Services and Malheur National Wildlife Refuge, the City of Burns, the City of Hines, Oregon Department of Water Resources, the Harney County Court, Harney County Chamber of Commerce, and adjacent BLM offices.

Dated: July 16, 2003.
Elaine M. Brong,
State Director, Oregon/Washington.

[FR Doc. 03-21072 Filed 9-18-03; 8:45 am]

BILLING CODE 4310-33-P